DEPARTMENT OF HEALTH AND HUMAN SERVICES

Food and Drug Administration

Anti-Infective Drugs Advisory Committee Meeting; Notice of Meeting; Cancellation

AGENCY: Food and Drug Administration, HHS.

ACTION: Notice.

SUMMARY: The meeting of the Anti-Infective Drugs Advisory Committee scheduled for April 11, 2007, is cancelled. This meeting was announced in the Federal Register of March 16, 2007 (72 FR 12620).

FOR FURTHER INFORMATION CONTACT: Lt. Sohail Mosaddegh, Center for Drug Evaluation and Research (HFD-21), Food and Drug Administration, 5600 Fishers Lane (for express delivery, 5630 Fishers Lane, rm. 1093), Rockville, MD 20857, 301-827-7001, FAX: 301-827-6776, e-mail: sohail.mosaddegh@fda.hhs.gov, or FDA Advisory Committee Information Line, 1-800-741-8138 (443-0572 in the Washington, DC area), code 3014512530. Please call the Information Line for up-to-date information on this meeting.

Dated: April 8, 2007.
Randall W. Lutter,
Associate Commissioner for Policy and Planning.

[FR Doc. 07-1825 Filed 4-9-07; 3:14 pm]

BILLING CODE 4160-01-S